DEPARTMENT OF THE TREASURY

Internal Revenue Service

Proposed Extension of Information Collection Request Submitted for Public Comment; Comment Request on Burden Related to Form CT-1 and CT-1 X

AGENCY: Internal Revenue Service (IRS), Treasury.

ACTION: Notice and request for comments.

SUMMARY: The Internal Revenue Service, as part of its continuing effort to reduce paperwork and respondent burden, invites the public and other Federal agencies to take this opportunity to comment on proposed and/or continuing information collections, as required by the Paperwork Reduction Act of 1995. Currently, the IRS is soliciting comments concerning the burden associated with Form CT-1, Employer's Annual Railroad Retirement Tax Return and Form CT-1 X, Adjusted Employer's Annual Railroad Retirement Tax Return or Claim for Refund.

DATES: Written comments should be received on or before February 1, 2021 to be assured of consideration.

ADDRESSES: Direct all written comments to Kinna Brewington, Internal Revenue Service, Room 6529, 1111 Constitution Avenue NW, Washington, DC 20224. Requests for additional information or copies of the regulations should be directed to Ronald J. Durbala, at Internal Revenue Service, Room 6129, 1111 Constitution Avenue NW, Washington DC 20224, or through the internet, at RJoseph.Durbala@irs.gov.

SUPPLEMENTARY INFORMATION: Title: Railroad Retirement Tax Act (Form CT-1 and CT-1X).

OMB Number: 1545-0001.

Regulation Project Number: Form CT-1 and Form CT-1 X.

Abstract: Railroad employers are required to file an annual return to report employer and employee Railroad Retirement Tax Act (RRTA) taxes. Form CT-1 is used for this purpose. The IRS uses the information to ensure that the employer has paid the correct tax. Form CT-1X is used to correct previously filed Forms CT-1.

Current Actions: We have significantly revised the 2020 Form CT-1 to allow for the reporting of new employment tax credits and the deferral of deposit and payment of certain taxes from the following provisions.

• Public Law 116-127: Section 7001, Payroll credit for required paid sick leave; Section 7003, Payroll credit for required family leave; and Section 7005, Wages paid by reason of the Emergency Paid Sick Leave Act and the Emergency Family and Medical Leave Expansion Act not considered compensation under section 3221(a)

• Public Law 116-136: Section 2301 Employee Retention Credit; and Section 2302, Delay of payment for employer payroll taxes.

The changes to Form CT-1 will result in an estimated burden increase of 5,985 hours. This submission is for renewal purposes.

Type of Review: Revision of a currently approved collection.

Affected Public: Businesses or other for-profit organizations, not-for-profit institutions, and state, local or tribal governments.

Estimated Number of Respondents: 2,400.

Estimated Time per Respondent: 18 hrs., 56 min.

Estimated Total Annual Burden Hours: 45,440.

The following paragraph applies to all the collections of information covered by this notice:

An agency may not conduct or sponsor, and a person is not required to respond to, a collection of information unless the collection of information displays a valid OMB control number.

Books or records relating to a collection of information must be retained if their contents may become material in the administration of any internal revenue law. Generally, tax returns and tax return information are confidential, as required by 26 U.S.C. 6103.

Desired Focus of Comments: The Internal Revenue Service (IRS) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including using appropriate automated, electronic, mechanical, or other technological collection techniques or other forms of information technology, e.g., by permitting electronic submissions of responses.

Comments submitted in response to this notice will be summarized and/or included in the ICR for OMB approval of the extension of the information collection; they will also become a matter of public record.

Approved: November 24, 2020.
Ronald J. Durbala,
IRS Tax Analyst.

[FR Doc. 2020-26393 Filed 11-30-20; 8:45 am]

BILLING CODE 4830-01-P